DEPARTMENT OF TRANSPORTATION

Office of the Secretary

Notice of Applications for Certificates of Public Convenience and Necessity and Foreign Air Carrier Permits Filed Under Subpart B (Formerly Subpart Q) During the Week Ending May 23, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0166.

Date Filed: May 22, 2008.

Due Date for Answers, Conforming Applications, or Motion to Modify Scope: June 16, 2008.

Description: Notice of Vision Airlines, Inc. intent to resume scheduled interstate air transportation of persons, property and mail on May 22 or May 23, 2008 following a voluntary and brief cessation of operations, and requests a waiver from the applicable 45-day notice period to enable Vision to commence operation as soon as possible.

Docket Number: DOT-OST-2008-0167.

Date Filed: May 22, 2008.

Due Date for Answers, Conforming Applications, or Motion to Modify Scope: June 16, 2008.

Description: Joint Application of MAXjet Airways, Inc. (“MAXjet”), MAXjet Airways Acquisition Group LLC (“MAAG”) and NCA MAXjet, Inc. (“NCA MAXjet”) requesting transfer to MAAG and NCA MAXjet of the interstate certificate of public convenience and necessity issued to MAXjet.

Renee V. Wright,
Program Manager, Docket Operations, Federal Register Liaison.

[FR Doc. E8-14492 Filed 6-25-08; 8:45 am]

BILLING CODE 4910-9X-P